DEPARTMENT OF TRANSPORTATION

Federal Aviation Administration

14 CFR Part 39

[Docket No. FAA-2012-1251; Directorate Identifier 2012-CE-044-AD; Amendment 39-17335; AD 2013-03-01]

RIN 2120-AA64

Airworthiness Directives; Pacific Aerospace Limited Airplanes

AGENCY: Federal Aviation Administration (FAA), Department of Transportation (DOT).

ACTION: Final rule.

SUMMARY: We are superseding an existing airworthiness directive (AD) for all Pacific Aerospace Limited Models FU24-954 and FU24A-954 airplanes. This AD results from mandatory continuing airworthiness information (MCAI) issued by an aviation authority of another country to identify and correct an unsafe condition on an aviation product. The MCAI describes the unsafe condition as aircraft operating outside the aircraft aft center of gravity (C of G) limits during parachute-drop operations. Exceeding C of G limits could result in loss of control of the aircraft. We are issuing this AD to require actions to address the unsafe condition on these products.

DATES: This AD is effective March 19, 2013.

The Director of the Federal Register approved the incorporation by reference of certain publications listed in the AD as of March 19, 2013.

ADDRESSES: You may examine the AD docket on the Internet at http://www.regulations.gov or in person at the Docket Management Facility, U.S. Department of Transportation, Docket Operations, M-30, West Building Ground Floor, Room W12-140, 1200 New Jersey Avenue SE., Washington, DC 20590. For service information identified in this AD, contact Pacific Aerospace Limited, Hamilton Airport, Private Bag, 3027 Hamilton, New Zealand; telephone: +64 7 843 6144; fax: +64 7 843 6134; email: enquiries@aerospace.co.nz; Internet: http://www.aerospace.co.nz/. You may review copies of the referenced service information at the FAA, Small Airplane Directorate, 901 Locust, Kansas City, Missouri 64106. For information on the availability of this material at the FAA, call (816) 329-4148.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 to include an AD that would apply to the specified products. That NPRM was published in the Federal Register on November 30, 2012 (77 FR 71357), and proposed to supersede AD 2010-20-18, Amendment 39-16453 (75 FR 59606, September 28, 2010).

Since we issued AD 2010-20-18, Amendment 39-16453 (75 FR 59606, September 28, 2010), information has been received that shows that the operating limitations should be different between turbine engine and piston engine Pacific Aerospace Limited Models FU24-954 and FU24A-954 airplanes.

The Civil Aviation Authority (CAA), which is the aviation authority for New Zealand, has issued AD DCA/FU24/182, dated October 25, 2012 (referred to after this as “the MCAI”), to correct an unsafe condition for the specified products. The new MCAI AD supersedes the requirements in AD DCA/FU24/179.

The new MCAI requires adding a requirement to install station marking placards inside the rear cabin walls and inserting a supplement into the airplane flight manual (AFM) specifically approved for parachuting operations that contains detailed information for determining the weight and balance of the aircraft for turbine engine airplanes. This AD also retains all actions in AD 2010-20-18, Amendment 39-16453 (75 FR 59606, September 28, 2010), for all airplanes.

Comments

We gave the public the opportunity to participate in developing this AD. We received no comments on the NPRM (77 FR 71357, November 30, 2012) or on the determination of the cost to the public.

Conclusion

We reviewed the relevant data and determined that air safety and the public interest require adopting the AD as proposed except for minor editorial changes. We have determined that these minor changes:

• Are consistent with the intent that was proposed in the NPRM (77 FR 71357, November 30, 2012), for correcting the unsafe condition; and

• Do not add any additional burden upon the public than was already proposed in the NPRM (77 FR 71357, November 30, 2012).

Costs of Compliance

We estimate that this AD will affect 1 product of U.S. registry. We also estimate that it will take about 22 work-hours per product to comply with the basic requirements of this AD. The average labor rate is $85 per work-hour.

Based on these figures, we estimate the cost of this AD on U.S. operators to be $1,870 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM (77 FR 71357, November 30, 2012), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2010-20-18, Amendment 39-16453 (75 FR 59606, September 28, 2010), and adding the following new AD:

2013-03-01 Pacific Aerospace Limited: Amendment 39-17335; Docket No. FAA-2012-1251; Directorate Identifier 2012-CE-044-AD.

(a) Effective Date

This airworthiness directive (AD) becomes effective March 19, 2013.

(b) Affected ADs

This AD supersedes AD 2010-20-18, Amendment 39-16453 (75 FR 59606, September 28, 2010).

(c) Applicability

This AD applies to Pacific Aerospace Limited Models FU24-954 and FU24A-954 airplanes, all serial numbers, that are:

(1) certificated in any category; and

(2) modified to conduct parachute operations.

(d) Subject

Air Transport Association of America (ATA) Code 8: Leveling and Weighing.

(e) Reason

This AD was prompted by reports of aircraft operating outside the aft center of gravity (C of G) limits during parachute-drop operations. We are issuing this AD to prevent exceeding C of G limits, which could result in loss of control of the aircraft.

(f) Actions and Compliance for All Airplanes (Both Turbine and Piston Engine Airplanes) Retained From AD 2010-20-18, Amendment 39-16453 (75 FR 59606, September 28, 2010)

Unless already done, do the following actions:

(1) As of October 18, 2010 (the effective date retained from AD 2010-20-18, Amendment 39-16453 (75 FR 59606, September 28, 2010)), before further parachute-drop operations:

(i) Amend the airplane flight manual (AFM) to restrict maximum occupancy of the cabin aft of fuselage station (F.S) 118.84 to 6 persons. This may be done by inserting a copy of this AD into the AFM adjacent to the applicable supplement for parachuting operations; and

(ii) Fabricate a placard at least 2 by 4 inches (using at least 1/8-inch letters) and install the placard in two places, one on each side of the aft cabin, in view of all occupants as they enter and occupy the cabin which states the following: Maximum occupancy of this cabin limited to six persons for parachuting operations. Weight and balance must be confirmed for each flight.

(2) As of October 18, 2010 (the effective date retained from AD 2010-20-18, Amendment 39-16453 (75 FR 59606, September 28, 2010)), before further parachute-drop operations, the weight and balance calculation must comply with the following limitations and establish that the aircraft C of G will remain within AFM limits for the duration of the flight:

(i) Use actual weights for all occupants and their equipment to do the calculation;

(ii) Account for the positions of all occupants in the calculation. Do the calculation with the occupants' (parachuting group) positions at the most aft positions that result from the rearmost members of the group sitting against the aft cabin wall and subsequent occupants located immediately forward of them, unless a means of restraint is provided to prevent the occupants moving rearwards from their normal position; and

(iii) Keep a record of the C of G determination for each parachuting operation.

(g) New Actions and Compliance for Turbine Engine Airplanes

Within the next 15 days after March 19, 2013 (the effective date of this AD), do the following:

(1) Add fuselage station (F.S.) reference line placards inside the rear cabin walls following the instructions in Section 2.5, Placards, of the CAA Approved AFM Supplement for Aircraft Modified for Parachuting Operations, PT6 Fletcher-EX Document Reference: AIR 2817-FMS-P1, dated October 15, 2012, or Walter Fletcher Document Reference: AIR 2672-FMS-P1, dated October 15, 2012, as applicable.

(2) Insert Section 2.4, Weight and Balance, of the CAA Approved AFM Supplement for Aircraft Modified for Parachuting Operations, PT6 Fletcher-EX Document Reference: AIR 2817-FMS-P1, dated October 15, 2012, or Walter Fletcher Document Reference: AIR 2672-FMS-P1, dated October 15, 2012, as applicable, into the AFM.

(h) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI CAA (Civil Aviation Authority) AD DCA/FU24/182, dated October 25, 2012; CAA Approved Flight Manual Supplement PT6 Fletcher-EX for Aircraft Modified for Parachuting Operations, Document Reference: AIR 2817-FMS-P1, dated October 15, 2012; and CAA Approved Flight Manual Supplement Walter Fletcher for Aircraft Modified for Parachuting Operations, Document Reference: AIR 2672-FMS-P1, dated October 15, 2012, for related information.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) CAA Approved Flight Manual Supplement PT6 Fletcher-EX for Aircraft Modified for Parachuting Operations, Document Reference: AIR 2817-FMS-P1, dated October 15, 2012.

(ii) CAA Approved Flight Manual Supplement Walter Fletcher for Aircraft Modified for Parachuting Operations, Document Reference: AIR 2672-FMS-P1, dated October 15, 2012.

(3) For Pacific Aerospace Limited service information identified in this AD, contact Pacific Aerospace Limited, Hamilton Airport, Private Bag, 3027 Hamilton, New Zealand; telephone: +64 7 843 6144; fax: +64 7 843 6134; email: enquiries@aerospace.co.nz; Internet: http://www.aerospace.co.nz/.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/index.html.

Issued in Kansas City, Missouri, on January 29, 2013.
Earl Lawrence,
Manager, Small Airplane Directorate, Aircraft Certification Service.

[FR Doc. 2013-02364 Filed 2-11-13; 8:45 am]

BILLING CODE 4910-13-P